DEPARTMENT OF AGRICULTURE

Cooperative State Research, Education, and Extension Service

Higher Education Challenge Grants Program: Request for Applications and Request for Input

AGENCY: Cooperative State Research, Education, and Extension Service, USDA.

ACTION: Notice of request for applications and request for input.

SUMMARY: The Cooperative State Research, Education, and Extension Service (CSREES) announces the availability of grant funds and requests applications for the Higher Education Challenge Grants Program (HEC) for fiscal year (FY) 2002 to stimulate and enable colleges and universities to provide the quality of education necessary to produce baccalaureate or higher degree level graduates capable of strengthening the Nation's food and agricultural scientific and professional work force. It is intended that projects supported by the program will: (1) Address a State, regional, national, or international educational need; (2) involve a creative or nontraditional approach toward addressing that need which can serve as a model to others; (3) encourage and facilitate better working relationships in the university science and education community, as well as between universities and the private sector, to enhance program quality and supplement available resources; and (4) result in benefits which will likely transcend the project duration and USDA support.

The amount available for support of this program in FY 2002 is approximately $4,058,000.

This notice identifies the objectives for HEC projects, the eligibility criteria for projects and applicants, and the application forms and associated instructions needed to apply for a HEC grant.

By this notice, CSREES additionally requests stakeholder input from any interested party for use in the development of the next Request for Applications (RFA) for this program.

DATES: Applications must be received by close of business (COB) on February 11, 2002. (5 p.m. Eastern Time). Applications received after this deadline will not be considered for funding. Comments regarding this RFA are requested within six months from the issuance of this notice. Comments received after that date will be considered to the extent practicable.

ADDRESSES: The address for hand-delivered applications or applications submitted using an express mail or overnight courier service is: Higher Education Challenge Grants Program;c/o Proposal Services Unit; Cooperative State Research, Education, and Extension Service; U.S. Department of Agriculture; Room 1307, Waterfront Centre; 800 9th Street, SW.; Washington, DC 20024; Telephone: (202) 401-5048.

Applications sent via the U.S. Postal Service must be sent to the following address: Higher Education Challenge Grants Program; c/o Proposal Services Unit; Cooperative State Research, Education, and Extension Service; U.S. Department of Agriculture; STOP 2245; 1400 Independence Avenue, SW.; Washington, DC 20250-2245.

Written stakeholder comments should be submitted by mail to: Policy and Program Liaison Staff; Office of Extramural Programs; USDA-CSREES; STOP 2299; 1400 Independence Avenue, SW.; Washington, DC 20250-2299; or via e-mail to: RFP-OEP@reeusda.gov. (This e-mail address is intended only for receiving comments regarding this RFA and not requesting information or forms.) In your comments, please state that you are responding to the Higher Education Challenge Grants Program RFA.

FOR FURTHER INFORMATION CONTACT: Applicants and other interested parties are encouraged to contact Mr. P. Gregory Smith; National Program Leader; Higher Education Programs, Cooperative State Research, Education and Extension Service; 1400 Independence Ave, SW.; STOP 2251; Washington, DC 20250-2251; telephone: (202) 720-2211; fax: (202) 720-2030; email: gsmith@reeusda.gov.

SUPPLEMENTARY INFORMATION:

Catalog of Federal Domestic Assistance

This program is listed in the Catalog of Federal Domestic Assistance under number 10.217.

Stakeholder Input

CSREES is requesting comments regarding this RFA from any interested party. These comments will be considered in the development of the next RFA for the program. Such comments will be used to meet the requirements of section 103(c)(2) of the Agricultural Research, Extension, and Education Reform Act of 1998 (7 U.S.C. 7613(c)(2)). This section requires the Secretary to solicit and consider input on a current RFA from persons who conduct or use agricultural research, education and extension for use in formulating future RFA's for competitive programs. Comments should be submitted as provided for in the Addresses and Dates portions of this Notice.

Table of Contents

Part I—General Information

A. Legislative Authority and Background

B. Purpose, Priorities, and Fund Availability

C. Definitions

D. Eligibility

E. Indirect Costs

F. Matching Requirements

G. Funding Restrictions

H. Types of Proposals

Part II—Program Description

A. Project Types

B. Program Area Description

Part III—Preparation of a Proposal

A. Program Application Materials

B. Content of Proposals

C. Submission of Proposals

D. Acknowledgment of Proposals

Part IV—Review Process

A. General

B. Evaluation Criteria

C. Conflicts-of-Interest and Confidentiality

Part V—Grant Awards

A. General

B. Organizational Management Information

C. Grant Award Document and Notice of Grant Award

Part VI—Additional Information

A. Access to Review Information

B. Use of Funds; Changes

C. Expected Program Outputs and Reporting Requirements

D. Applicable Federal Statutes and Regulations

E. Confidential Aspects of Proposals and Awards

F. Regulatory Information

Part I—General Information

A. Legislative Authority and Background

Authority for this program is contained in section 1417(b)(1) of the National Agricultural Research, Extension, and Teaching Policy Act of 1977, as amended (NARETPA) (7 U.S.C. 3152(b)(1)). In accordance with the statutory authority, subject to the availability of funds, the Secretary of Agriculture, who has delegated the authority to the Administrator of CSREES, may make competitive grants, for a period not to exceed 5 years, to land-grant colleges and universities, to colleges and universities having significant minority enrollments and a demonstrable capacity to carry out the teaching of food and agricultural sciences, and to other colleges and universities having a demonstrable capacity to carry out the teaching of food and agricultural sciences, to administer and conduct programs to respond to identified State, regional, national or international educational needs in the food and agricultural sciences. For this program, the term “food and agricultural sciences” means basic, applied, and developmental teaching activities in food and fiber, agricultural, renewable natural resources, forestry, and physical and social sciences, and including related disciplines as defined in section 1404(8) of NARETPA, 7 U.S.C. 3103(8).

B. Purpose, Priorities, and Fund Availability

The HEC program supports projects related to strengthening undergraduate teaching programs in any subject matter area(s) in the food and agricultural sciences. A proposal may address a single targeted need area or multiple targeted need areas, and may be focused on a single subject matter area or multiple subject matter areas, in any combination (e.g., curriculum development in horticulture; curriculum development, faculty enhancement, and student experiential learning in animal science; faculty enhancement in food science and agribusiness management; or instruction delivery systems and student experiential learning in plant science, horticulture, and entomology). Please note that one of these Need Areas must be indicated in the appropriate space on the Project Summary Form (Form CSREES-2003) in the proposal application forms package.

For FY 2002, targeted need areas consist of one or more of the following:

(a) Curricula Design and Materials Development

The purpose of this initiative is to promote new and improved curricula and materials to increase the quality of, and continuously renew, the Nation's academic programs in the food and agricultural sciences. The overall objective is to stimulate the development and facilitate the use of exemplary education models and materials that incorporate the most recent advances in subject matter, research on teaching and learning theory, and instructional technology. Proposals may emphasize: the development of courses of study, degree programs, and instructional materials; the use of new approaches to the study of traditional subjects; or the introduction of new subjects, or new applications of knowledge, pertaining to the food and agricultural sciences. Examples include, but are not limited to, curricula and materials that promote: raising the level of scholastic achievement of the Nation's graduates in the food and agricultural sciences, addressing the special needs of particular groups of students, such as minorities, gifted and talented, or those with educational backgrounds that warrant enrichment, using alternative instructional strategies or methodologies, including computer-assisted instruction or simulation modeling, media programs that reach large audiences efficiently and effectively, activities that provide hands-on learning experiences, and educational programs that extend learning beyond the classroom, using sound pedagogy, particularly with regard to recent research on how to motivate students to learn, retain, apply, and transfer knowledge, skills, and competencies, and building student competencies to integrate and synthesize knowledge from several disciplines.

(b) Faculty Preparation and Enhancement for Teaching

The purpose of this initiative is to advance faculty development in the areas of teaching competency, subject matter expertise, or student recruitment and advising skills. Teachers are central to education. They serve as models, motivators, and mentors—the catalysts of the learning process. Moreover, teachers are agents for developing, replicating, and exchanging effective teaching materials and methods. For these reasons, education can be strengthened only when teachers are adequately prepared, highly motivated, and appropriately recognized and rewarded.

Each faculty recipient of support for developmental activities must be an “eligible participant” as defined in this RFA. Examples of developmental activities include, but are not limited to, those which enable teaching faculty to: Gain experience with recent developments or innovative technology relevant to their teaching responsibilities, work under the guidance and direction of experts who have substantial expertise in an area related to the developmental goals of the project, work with scientists or professionals in government, industry, or other colleges or universities to learn new applications in a field, obtain personal experience working with new ideas and techniques, expand competence with new methods of information delivery, such as computer-assisted or televised instruction, or increase understanding of the special needs of non-traditional students or students from groups that are underrepresented in the food and agricultural sciences workforce.

(c) Instruction Delivery Systems

The purpose of this initiative is to encourage the use of alternative methods of delivering instruction to enhance the quality, effectiveness, and cost efficiency of teaching programs. The importance of this initiative is evidenced by advances in educational research which have substantiated the theory that differences in the learning styles of students often require alternative instructional methodologies. Also, the rising costs of higher education strongly suggest that colleges and universities undertake more efforts of a collaborative nature in order to deliver instruction which maximizes program quality and reduces unnecessary duplication. At the same time, advancements in knowledge and technology continue to introduce new subject matter areas which warrant consideration and implementation of innovative instruction techniques, methodologies, and delivery systems. Examples include, but are not limited to: Use of computers, teleconferencing, networking via satellite communications, regionalization of academic programs, mobile classrooms and laboratories, individualized learning centers, or symposia, forums, regional or national workshops, etc.

(d) Student Experiential Learning

The purpose of this initiative is to further the development of student scientific and professional competencies through experiential learning programs which provide students with opportunities to solve complex problems in the context of real-world situations. Effective experiential learning is essential in preparing future graduates to advance knowledge and technology, enhance quality of life, conserve resources, and revitalize the Nation's economic competitiveness. Such experiential learning opportunities are most effective when they serve to advance decision-making and communication skills as well as technological expertise. Examples include, but are not limited to, projects which: Provide opportunities for students to participate in research projects, either as a part of an ongoing research project or in a project designed especially for this program, provide opportunities for students to complete apprenticeships, internships, or similar participatory learning experiences, expand and enrich courses which are of a practicum nature, or provide career mentoring experiences that link students with outstanding professionals.

There is no commitment by USDA to fund any particular application or to make a specific number of awards. Approximately $4,058,000 will be available to fund applications in FY 2002.

C. Definitions

For the purpose of this program, the following definitions are applicable:

Authorized departmental officer means the Secretary or any employee of the Department with delegated authority to issue or modify grant instruments on behalf of the Secretary.

Authorized organizational representative means the president or chief executive officer of the applicant organization or the official, designated by the president or chief executive officer of the applicant organization, who has the authority to commit the resources of the organization.

Budget period means the interval of time (usually 12 months) into which the project period is divided for budgetary and reporting purposes.

Cash contributions means the applicant's cash outlay, including the outlay of money contributed to the applicant by non-Federal third parties.

Citizen or national of the United States means:

(1) A citizen or native resident of a State; or,

(2) A person defined in the Immigration and Nationality Act, 8 U.S.C. 1101(a)(22), who, though not a citizen of the United States, owes permanent allegiance to the United States.

When eligibility is claimed solely on the basis of permanent allegiance, documentary evidence from the Immigration and Naturalization Service as to such eligibility must be made available to CSREES upon request.

College or University means an educational institution in any State which:

(1) Admits as regular students only persons having a certificate of graduation from a school providing secondary education, or the recognized equivalent of such a certificate;

(2) Is legally authorized within such State to provide a program of education beyond secondary education;

(3) Provides an educational program for which an associate degree or any other higher degree is awarded;

(4) Is a public or other nonprofit institution; and

(5) Is accredited by a nationally recognized accrediting agency or association, or if not so accredited, is an institution that has been granted pre-accreditation status by such an agency or association that has been recognized by the Secretary of Education for the granting of pre-accreditation status, and the Secretary of Education has determined that there is satisfactory assurance that the institution will meet the accreditation standards of such an agency or association within a reasonable time.

Complementary project proposal means a proposal for a project which involves coordination with one or more other projects for which funding was awarded under this program in a previous fiscal year, or for which funding is requested under this program in the current fiscal year.

Department or USDA means the United States Department of Agriculture.

Eligible institution means an institution of higher education:

(1) That has an enrollment of needy students as defined in this section;

(2) Except if waived by the Secretary of Education, the average educational and general expenditures of which are low, per full-time equivalent undergraduate student, in comparison with the average educational and general expenditures per full-time equivalent undergraduate student of institutions that offer similar instruction;

(3) That is legally authorized to provide, and provides within the State, an educational program for which the institution awards a bachelor's degree; or that is a junior or community college as defined in this section;

(4) That is accredited by a nationally recognized accrediting agency or association determined by the Secretary of Education to be a reliable authority as to the quality of training offered or that is, according to such an agency or association, making reasonable progress toward accreditation;

(5) That meets such other requirements as the Secretary of Education may prescribe; and

(6) That is located in a State.

The term eligible institution also applies to any branch of any institution of higher education, described by the definition of an eligible institution, that by itself satisfies the requirements contained in clauses (1) and (2) of the definition of an eligible institution.

For purposes of determinating whether an institution is an eligible institution, the factor described under clause (1) of the definition of an eligible institution shall be given twice the weight of the factor described under clause (2) of the definition of an eligible institution.

Eligible participant means an individual who: (1) Is a citizen or national of the United States, as defined in this section; or (2) is a citizen of the Federated States of Micronesia, the Republic of the Marshall Islands, or the Republic of Palau. Where eligibility is claimed on the basis of owing permanent allegiance to the United States, documentary evidence from the Immigration and Naturalization Service as to such eligibility must be made available to USDA upon request.

Food and agricultural sciences means basic, applied, and developmental research, extension, and teaching activities in the food and fiber, agricultural, renewable natural resources, forestry, and physical and social sciences, in the broadest sense of these terms, including but not limited to, activities relating to the production, processing, marketing, distribution, conservation, utilization, consumption, research, and development of food and agriculturally related products and services, and inclusive of programs in agriculture, natural resources, aquaculture, forestry, veterinary medicine, home economics, rural human ecology, and closely allied disciplines.

Grantee means the organization designated in the grant award document as the responsible legal entity to which a grant is awarded.

Joint project proposal means a proposal for a project, which will involve the applicant institution and two or more other colleges, universities, community colleges, junior colleges, or other institutions, each of which will assume a major role in the conduct of the proposed project, and for which the applicant institution will transfer at least one-half of the awarded funds to the other institutions participating in the project. Only the applicant institution must meet the definition of “eligible institution”; the other institutions participating in a joint project proposal are not required to meet the definition of “eligible institution”, nor required to meet the definition of “college” or “university”.

Land-grant colleges and universities means those institutions eligible to receive funds under the Act of July 2, 1862 (12 Stat. 503-505, as amended; 7 U.S.C. 301-305, 307 and 308), or the Act of August 30, 1890 (26 Stat. 417-419, as amended; 7 U.S.C. 321-326 and 328), including Tuskegee University.

Matching or Cost-sharing means that portion of allowable project costs not borne by the Federal Government, including the value of in-kind contributions.

Peer reviewers means experts or consultants qualified by training and experience to give expert advice on the scientific and technical merit of grant applications or the relevance of those applications to one or more of the proposal evaluation criteria. Peer reviewers may be ad hoc or convened as a panel.

Prior approval means written approval evidencing prior consent by an authorized departmental officer.

Project means the particular activity within the scope of the program supported by a grant award.

Project director means the single individual designated by the grantee in the grant application and approved by the Authorized Departmental Officer who is responsible for the direction and management of the project [also known as a principal investigator for research activities].

Project period means the total length of time, as stated in the award document and modifications thereto, if any, during which Federal sponsorship begins and ends.

Secretary means the Secretary of Agriculture and any other officer or employee of the Department to whom the authority involved may be delegated.

State means any one of the fifty States, the Commonwealth of Puerto Rico, Guam, American Samoa, the Commonwealth of the Northern Marianas, the Virgin Islands of the United States, and the District of Columbia.

Teaching means formal classroom instruction, laboratory instruction, and practicum experience in the food and agricultural sciences and matters related thereto (such as faculty development, student recruitment and services, curriculum development, instructional materials and equipment, and innovative teaching methodologies) conducted by colleges and universities offering baccalaureate or higher degrees.

Third party in-kind contributions means non-cash contributions of property or services provided by non-Federal third parties, including real property, equipment, supplies and other expendable property, directly benefitting and specifically identifiable to a funded project or program.

United States means the several States, the territories and possessions of the United States, the Commonwealth of Puerto Rico, Guam, American Samoa, the Commonwealth of the Northern Marianas, the Virgin Islands of the United States, and the District of Columbia.

D. Eligibility

Applications may be submitted by land-grant colleges and universities and other U.S. public or private nonprofit colleges and universities offering a baccalaureate degree or any other higher degree and having a demonstrable capacity for, and a significant ongoing commitment to, the teaching of food and agricultural sciences generally and to the specific need and/or subject area(s) for which a grant is requested.

For FY 2002, this program supports projects related to strengthening undergraduate teaching programs in any subject matter area(s) in the food and agricultural sciences.

For FY 2002, a maximum of two grants may be awarded to an institution eligible under this program. This ceiling excludes any subcontracts awarded to an institution pursuant to other grants issued under this program.

In addition, a grantee institution must meet the definition of a college or university as defined in this RFA. An institution eligible to receive an award under this program includes a research foundation maintained by an eligible college or university. For the purposes of this program, the individual branches of a State university system or public system of higher education that are separately accredited at the college level as degree granting institutions, are treated as separate institutions. Award recipients may subcontract to organizations not eligible to apply provided such organizations are necessary for the conduct of the project.

E. Indirect Costs

Pursuant to section 1462 of NARETPA, 7 U.S.C. 3310, indirect costs charged against a competitive grant under this program may not exceed 19 percent of the total Federal funds provided under the grant award. An alternative method of calculation of this limitation is to multiply total direct costs by 23.456 percent. Note that the indirect cost limit of 19 percent also applies to matching funds.

F. Matching Requirements

A grant recipient is required to match the USDA funds awarded on a dollar-for-dollar basis from non-Federal sources. (See Part III. B. 12. c.)

G. Funding Restrictions

Under the Higher Education Challenge Grants Program, the use of grant funds to plan, acquire, or construct a building or facility is not allowed. With prior approval, in accordance with the cost principles set forth in OMB Circular No. A-21, some grant funds may be used for minor alterations, renovations, or repairs deemed necessary to retrofit existing teaching spaces in order to carry out a funded project. However, requests to use grant funds for such purposes must demonstrate that the alterations, renovations, or repairs are incidental to the major purpose for which a grant is made.

There is no limit on the number of proposals any one institution may submit. In addition, there is no limit on the number of proposals which may be submitted on behalf of the same school, college, or equivalent administrative unit within an institution.

H. Types of Applications

In FY 2002, applications may be submitted to the HEC as one of the following two types of requests:

(1) New application. This is a project application that has not been previously submitted to the HEC Program. All new applications will be reviewed competitively using the selection process and evaluation criteria described in Part IV—Review Process.

(3) Resubmitted application. This is an application that had previously been submitted to the HEC Program but not funded. Project Directors (PD's) must respond to the previous review panel summary (see Response to Previous Review, Part III.B.5). Resubmitted applications must be received by the relevant due dates, will be evaluated in competition with other pending applications in appropriate area to which they are assigned, and will be reviewed according to the same evaluation criteria as new applications.

Part II—Program Description

A. Project Types

For FY 2002, the maximum total funds that may be awarded to an applicant under this program are $100,000 for a regular submission and $250,000 for a joint submission, as defined in this RFA.

A funded project period should be no less than eighteen(18) months and no more than thirty-six (36) months.

B. Program Area Description

The HEC Program supports projects in any discipline of the food and agricultural sciences education. Applicants should select one of the following codes which best describes the major academic discipline addressed by the proposal. Enter this code where indicated under discipline on the Project Summary Form (Form CSREES-2003) in the proposal application forms package:

Discipline | Code
General Food and Agricultural Sciences (includes multidisciplinary, institution-wide projects) | G
Agribusiness Management and Marketing (includes Agricultural Economics) | M
Agriscience (includes Agricultural/Biological Engineering), | E
Agricultural Social Sciences (includes Agricultural Education, Agricultural Communications, and Rural Sociology) | S
Animal Sciences | A
Aquaculture | Q
Conservation and Renewable Natural Resources (includes Forestry and Ecology/Wetlands) | C
Entomology—Animal | J
Entomology—Plant | T
Environmental Sciences/Management | L
Food Science/Technology and Manufacturing (including Food Safety) | F
Human Nutrition | N
Family and Consumer Sciences (excludes Human Nutrition) | H
International Education/Research (enhancement of U.S. programs) | I
Plant Sciences and Horticulture (including Turf Sciences) | P
Related Biological Sciences (includes General/Basic Biotechnology, Biochemistry, and Microbiology) | B
Soil Sciences | D
Veterinary Medicine/Science | V
(W) Water Science/Water Resources (including Water Quality and Watershed Management) | W
Other (and explain) | O

Part III—Preparation of an Application

A. Program Application Materials

Program application materials are available at the CSREES Funding Opportunities web site (http://www.reeusda.gov/1700/funding/ourfund.htm). If you do not have access to the web page or have trouble downloading material and you would like a hardcopy, you may contact the Proposal Services Unit, Office of Extramural Programs, USDA/CSREES at (202) 401-5048. When calling the Proposal Services Unit, please indicate that you are requesting the RFA and associated application forms for the Higher Education Challenge Grants Program. These materials also may be requested via Internet by sending a message with your name, mailing address (not e-mail) and phone number to psb@reeusda.gov. State that you want a copy of the RFA and the associated application forms for Higher Education Challenge Grants Program.

B. Content of Applications

1. General

Use the following guidelines to prepare an application. Proper preparation of applications will assist reviewers in evaluating the merits of each application in a systematic, consistent fashion:

(a) Prepare the application on only one side of the page using standard size (8 1/2” x 11”) white paper, one-inch margins, typed or word processed using no type smaller than 12 point font, and single or double spaced. Use an easily readable font face (e.g., Geneva, Helvetica, Times Roman).

(b) Number each page of the application sequentially, starting with the Project Description, including the budget pages, required forms, and any appendices.

(c) Staple the application in the upper left-hand corner. Do not bind. An original and five (5) copies (six (6) total) must be submitted in one package, along with two (2) additional copies of the “Project Summary,” Form CSREES-2003, as a separate attachment.

(d) Include original illustrations (photographs, color prints, etc.) in all copies of the application to prevent loss of meaning through poor quality reproduction.

(e) The contents of the application should be assembled in the following order:

(1) Proposal Cover Page (Form CSREES-2002)

(2) Table of Contents

(3) Project Summary (Form CSREES-2003)

(4) Response to Previous Review

(5) Project Description

(6) References

(7) Appendices to Project Description

(8) Key Personnel

(9) Collaborative Arrangements (including Letters of Support)

(10) Conflict-of-Interest List (Form CSREES-2007)

(11) Budget (Form CSREES-2004)

(12) Budget Narrative

(13) Matching

(14) Current and Pending Support (Form CSREES-2005)

(15) Assurance Statement(s) (Form CSREES-2008)

(16) Compliance with the National Environmental Policy Act (NEPA) (Form CSREES-2006)

(17) Page B, Proposal Cover Page (Form

CSREES-2002), Personal Data on Project Director

2. Proposal Cover Page (Form CSREES-2002)

a. Page A

Each copy of each grant application must contain a “Proposal Cover Page”, Form CSREES-2002. One copy of the application, preferably the original, must contain the pen-and-ink signature(s) of the proposing PD's and the authorized organizational representative (AOR), the individual who possesses the necessary authority to commit the organization's time and other relevant resources to the project. If there are more than four co-PD's for an application, please list additional co-PD's on a separate sheet of paper (with appropriate information and signature) and attach to the Proposal Cover Page (Form CSREES-2002). Any proposed PD or co-PD whose signature does not appear on Form CSREES-2002 or attached additional sheets will not be listed on any resulting grant award. Complete both signature blocks located at the bottom of the “Proposal Cover Page” form. Please note that Form CSREES-2002 is comprised of two parts—Page A which is the “Proposal Cover Page” and Page B which is the “Personal Data on Project Director.”

Form CSREES-2002 serves as a source document for the CSREES grant database; it is therefore important that it be accurately completed in its entirety, especially the e-mail addresses requested in blocks 4.c. and 18.c. However, the following items are highlighted as having a high potential for errors or misinterpretations:

(a) Type of Performing Organization (Block 6A and 6B). For block 6A, a check should be placed in the appropriate box to identify the type of organization which is the legal recipient named in block 1. Only one box should be checked. For block 6B, please check as many boxes that apply to the affiliation of the PD listed in block 16.

(b) Title of Proposed Project (Block 7). The title of the project must be brief (140-character maximum, including spaces), yet represent the major thrust of the effort being proposed. Project titles are read by a variety of nonscientific people; therefore, highly technical words or phraseology should be avoided where possible. In addition, introductory phrases such as “investigation of,” “research on,” “education for,” or “outreach that” should not be used.

(c) Program to Which You Are Applying (Block 8). Enter Higher Education Challenge Grants Program.

(d) Type of Request (Block 14). Check the block for “New”, or “Resubmitted” (note that the other award types are not supported by this program).

(e) Project Director (PD) (Blocks 16-19). Blocks 16-18 are used to identify the PD and Block 19 to identify co-PD's. If needed, additional co-PD's may be listed on a separate sheet of paper and attached to Form CSREES-2002, the Proposal Cover Page, with the applicable co-PD information and signatures. Listing multiple co-PD's, beyond those required for genuine collaboration, is discouraged.

(f) Other Possible Sponsors (Block 21). List the names or acronyms of all other public or private sponsors including other agencies within USDA to which your application has been or might be sent. In the event you decide to send your application to another organization or agency at a later date, you must inform the identified CSREES program contact as soon as practicable. Submitting your application to other potential sponsors will not prejudice its review by CSREES; however, submitting the same (i.e., duplicate) application to another CSREES program is not permissible.

b. Page B

Page B should be submitted only with the original signature copy of the application and should be placed as the last page of the original copy of the application. This page contains personal data on the PD(s). CSREES requests this information in order to monitor the operation of its review and awards processes. This page will not be duplicated or used during the review process. Please note that failure to submit this information will in no way affect consideration of your application.

3. Table of Contents

For consistency and ease in locating information, each application must contain a detailed Table of Contents immediately following the proposal cover page. The Table of Contents should contain page numbers for each component of the application. Page numbering should begin with the first page of the Project Description.

4. Project Summary (Form CSREES-2003)

The application must contain a “Project Summary,” Form CSREES-2003. The summary should be approximately 250 words, contained within the box, placed immediately after the Table of Contents, and not numbered. The names and affiliated organizations of all PD's and co-PD's should be listed on this form, in addition to the title of the project. The summary should be a self-contained, specific description of the activity to be undertaken and should focus on: Overall project goal(s) and supporting objectives; plans to accomplish project goal(s); measurable anticipated project outcomes or products; and relevance of the project to the goals of the HEC Program. The importance of a concise, informative Project Summary cannot be overemphasized. If there are more than four co-PD's for an application, please list additional co-PD's on a separate sheet of paper (with appropriate information) and attach to the Project Summary (Form CSREES-2003).

5. Response to Previous Review

If the proposal is a resubmission, Project Directors (PDs) must respond to the previous panel summary on no more than one page, titled “RESPONSE TO PREVIOUS REVIEW”. In this section, a clear statement acknowledging comments from the previous reviewers, indicating revisions, rebuttals, etc., that can positively influence the review of the proposal should be made. Further, the resubmitted proposal should clearly indicate changes that have been made in the Project Description. Resubmitted proposals will be reviewed competitively using the selection process and evaluation criteria described in Part IV—Review Process.

This requirement only applies to “Resubmitted Applications” and “Resubmitted Renewal Applications” as described under Part I, H, “Types of Applications.” Project Directors (PD's) must respond to the previous review panel summary on no more than one page, titled “RESPONSE TO PREVIOUS REVIEW,” which is to be placed directly after the “Project Summary,” Form CSREES-2003.

6. Project Description

Please Note: The Project Description shall not exceed twenty (20) pages of written text and up to five (5) additional pages for figures and tables. This maximum (25 pages) has been established to ensure fair and equitable competition. (Note: to facilitate proposal review and evaluation, the applicant is advised to include the following underlined wording as headings in the proposal narrative, followed by the applicant's response for each item.) The Project Description must include all of the following:

(1) Potential for Advancing the Quality of Education

(a) Identification of Targeted Need Area(s). Clearly identify and explain the proposed project's Targeted Need Area(s) from those described in Part I. B. of this RFA.

(b) Project Justification. Clearly state the specific instructional problem or opportunity to be addressed. Describe how and by whom the focus and scope of the project were determined. Summarize the body of knowledge which substantiates the need for the proposed project. Discuss how the project will be of value at the State, regional, national, or international level(s). Describe any ongoing or recently completed significant activities related to the proposed project for which previous funding was received under this program.

(c) Innovation. Describe the proposal's creative approach to improving the quality of food and agricultural sciences higher education.

(d) Multidisciplinary focus. Indicate where the project is relevant to multiple disciplines in the food and agricultural sciences or with other academic curricula. Also, discuss whether the project may be adapted by, or serve as a model for, other institutions.

(2) Proposed Approach

(a) Objectives. Cite and discuss the specific project objectives to be accomplished.

(b) Plan of operation. Describe procedures for accomplishing the objectives of the project.

(c) Time line. Identify all important project milestones and dates as they relate to project start-up, execution, evaluation, dissemination, and close-out.

(d) Evaluation plans. Provide a plan for evaluating the accomplishment of stated objectives, products and outcomes during the conduct of the project. Indicate the criteria, and corresponding weight of each, to be used in the evaluation process, describe any data to be collected and analyzed, and explain the methodology that will be used to determine the extent to which the needs underlying the project are met. Demonstrate that the project's impact on improving education will be evaluated.

(e) Dissemination plans. Discuss the commitment to disseminate project results and products. Identify target audiences and explain methods of communication.

(f) Products, results and measurable outcomes. Explain the expected products, results, and their potential impact (outcome) on strengthening food and agricultural sciences higher education in the United States.

(g) Partnerships and collaborative efforts. Explain how the project will maximize partnership ventures and collaborative efforts to strengthen food and agricultural sciences higher education (e.g., involvement of faculty in related disciplines at the same institution, joint projects with other colleges or universities, or cooperative activities with business or industry). Also explain how it will stimulate academia, the States, or the private sector to join with the Federal partner in enhancing food and agricultural sciences higher education. Provide evidence, via letters from the parties involved, that arrangements necessary for collaborative partnerships or joint initiatives have been discussed and realistically can be expected to come to fruition, or actually have been finalized contingent on an award under this program. Letters must be signed by an official who has the authority to commit the resources of the organization. Such letters should be referenced in the Project Description, but the actual letters should be included in the Appendix section of the proposal. Any potential conflict(s) of interest that might result from the proposed collaborative arrangements must be discussed in detail.

(3) Key Personnel

In addition to the required separate vitae for each PD, discuss the specific attributes and project responsibilities of each key person associated with the project.

(4) Institutional commitment and resources

(a) Institutional commitment. Discuss the institution's commitment to the project. Discuss how the benefits to be derived from the project will transcend the applicant institution or the grant period. For example, substantiate that the institution attributes a high priority to the project, discuss how the project will contribute to the achievement of the institution's long-term (five- to ten-year) goals, explain how the project will help satisfy the institution's high-priority objectives, or show how this project is linked to and supported by the institution's strategic plan.

(b) Institutional resources. Document the commitment of institutional resources to the project, and show that the institutional resources to be made available to the project, when combined with the support requested from USDA, will be adequate to carry out the activities of the project. Discuss institutional facilities, equipment, computer services, and other appropriate resources available to the project.

(c) Continuation plans. Discuss the likelihood of, or plans for, continuation or expansion of the project beyond USDA support. For example, does the institution's long-range budget or academic plan provide for the realistic continuation or expansion of the initiative undertaken by this project after the end of the grant period, are plans for eventual self-support built into the project, are plans being made to institutionalize the program if it meets with success, and are there indications of other continuing non-Federal support?

(5) Budget and Cost-Effectiveness

(a) Budget. In addition to the separate required budget page and budget narrative forms, discuss how the budget specifically supports the proposed project activities. Explain how such budget items as professional or technical staff time and salary, travel, equipment, etc., are necessary and reasonable to achieve project objectives. Justify that the total budget, including funds requested from USDA and any matching support provided, are allocated between the applicant and any collaborating institution, and will be adequate to carry out the activities of the project. Provide a summary of sources and amounts of all third party matching support.

(b) Cost-effectiveness. Justify the project's cost-effectiveness. Show how the project maximizes the use of limited resources, optimizes educational value for the dollar, achieves economies of scale, or leverages additional funds. For example, discuss how the project has the potential to generate a critical mass of expertise and activity focused on a targeted need area, or to promote coalition building that could lead to future ventures.

7. References

All references to works cited should be complete, including titles and all co-authors, and should conform to an acceptable journal format. References are not considered in the page-limitation for the Project Description.

8. Appendices to Project Description

Appendices to the Project Description are allowed if they are directly germane to the proposed project. The addition of appendices should not be used to circumvent the text and/or figures and tables page limitations.

9. Key Personnel

The following should be included, as applicable:

(a) The roles and responsibilities of each PD and/or collaborator should be clearly described; and

(b) Vitae of the PD and each co-PD, senior associate, and other professional personnel. This section should include vitae of all key persons who are expected to work on the project, whether or not CSREES funds are sought for their support. The vitae should be limited to two (2) pages each in length, excluding publications listings. The vitae should include a presentation of academic and research credentials, as applicable, e.g., earned degrees, teaching experience, employment history, professional activities, honors and awards, and grants received. A chronological list of all publications in refereed journals during the past four (4) years, including those in press, must be provided, as applicable, for each project member for whom a curriculum vitae is provided. Also list only those non-refereed technical publications that have relevance to the proposed project. All authors should be listed in the same order as they appear on each paper cited, along with the title and complete reference as these usually appear in journals.

10. Collaborative Arrangements

If it will be necessary to enter into formal consulting or collaborative arrangements with others, such arrangements should be fully explained and justified. If the consultant(s) or collaborator(s) are known at the time of application, a vitae or resume should be provided. In addition, evidence (e.g., letter of support) should be provided that the collaborators involved have agreed to render these services. The applicant also will be required to provide additional information on consultants and collaborators in the budget portion of the application. See instructions in the application forms for completing Form CSREES-2004, Budget.

11. Conflict-of-Interest List (Form CSREES-2007)

A “Conflict-of-Interest List,” Form CSREES-2007, must be provided for all individuals who have submitted a vitae in response to item 9.(b) of this part. Each Form CSREES-2007 should list alphabetically, by the last names, the full names of the individuals in the following categories: (a) All co-authors on publications within the past four years, including pending publications and submissions; (b) all collaborators on projects within the past four years, including current and planned collaborations; (c) all thesis or postdoctoral advisees/advisors within the past four years; and (d) all persons in your field with whom you have had a consulting or financial arrangement within the past four years, who stand to gain by seeing the project funded. This form is necessary to assist program staff in excluding from application review those individuals who have conflicts of interest with the personnel in the grant application. The program contact must be informed of any additional conflicts of interest that arise after the application is submitted.

12. Budget (Form CSREES-2004)

a. General

(1) Budget Form

Prepare the Budget, Form CSREES-2004, in accordance with instructions provided with the application forms. A budget form is required for each year of requested support. In addition, a cumulative budget is required detailing the requested total support for the overall project period. The budget form may be reproduced as needed by applicants. Funds may be requested under any of the categories listed on the form, provided that the item or service for which support is requested is allowable under the authorizing legislation, the applicable statutes, regulations, and Federal cost principles, and these program guidelines, and can be justified as necessary for the successful conduct of the proposed project. Applicants also must include a budget narrative to justify their budget requests (see section b. below.)

(2) Matching

Contributions toward the match from the institution should be identified in the column “Non-Federal Proposed Cost Sharing/Matching Funds” on the Budget Form (Form CSREES-2004). Cash contributions of the institution and third parties as well as non-cash contributions should be identified on Line P., as appropriate, of Form CSREES-2004 and described in the budget narrative. Any cost sharing commitments specified in the proposal will be referenced and included as a condition of an award resulting from this announcement. Any cost sharing commitments to the proposed grant must have a signed letter from the committing organization's Authorized Organizational Representative (AOR) and countersigned by the recipient's AOR. The letter must state the total dollar amount intended for the proposed project and whether the contribution is cash or in-kind. If the contribution is to be split between cash and in-kind, the exact dollar amount for each category must be clearly stated. The contribution should also clearly state the budget categories that the contributed dollars should be applied to and clearly state the individual items of in-kind contributions.

b. Budget Narrative

All budget categories, with the exception of Indirect Costs, for which support is requested, must be individually listed (with costs) in the same order as the budget and justified on a separate sheet of paper and placed immediately behind the Budget form.

c. Matching Funds

Proposals should include written verification of commitments of matching support (including both cash and in-kind contributions) from third parties. Written verification means:

(a) For any third party cash contributions, a separate pledge agreement for each donation, signed by the AORs of the donor organization and the applicant organization, which must include: (1) The name, address, and telephone number of the donor; (2) the name of the applicant organization; (3) the title of the project for which the donation is made; (4) the dollar amount of the cash donation; and (5) a statement that the donor will pay the cash contribution during the grant period; and

(b) For any third party in-kind contributions, a separate pledge agreement for each contribution, signed by the AORs of the donor organization and the applicant organization, which must include: (1) The name, address, and telephone number of the donor; (2) the name of the applicant organization; (3) the title of the project for which the donation is made; (4) a good faith estimate of the current fair market value of the third party in-kind contribution; and (5) a statement that the donor will make the contribution during the grant period.

The sources and amount of all matching support from outside the applicant institution should be summarized on a separate page and placed in the proposal immediately following the Budget Narrative. All pledge agreements must be placed in the proposal immediately following the summary of matching support.

The value of applicant contributions to the project shall be established in accordance with applicable cost principles. Applicants should refer to OMB Circular A-21, Cost Principles for Educational Institutions, for further guidance and other requirements relating to matching and allowable costs. Contributions toward the match from the institution should be identified in the column “Non-Federal Proposed Cost Sharing/Matching Funds” on the Budget Form (Form CSREES-2004).

Any cost sharing commitments specified in the proposal will be referenced and included as a condition of an award resulting from this announcement.

13. Current and Pending Support (Form CSREES-2005)

All applications must contain Form CSREES-2005 listing other current public or private support (including in-house support) to which personnel (i.e., individuals submitting a vitae in response to item 9.(b) of this part) identified in the application have committed portions of their time, whether or not salary support for person(s) involved is included in the budget. Please follow the instructions provided on this form. Concurrent submission of identical or similar applications to the possible sponsors will not prejudice application review or evaluation by the CSREES. However, an application that duplicates or overlaps substantially with an application already reviewed and funded (or to be funded) by another organization or agency will not be funded under this program. Please note that the project being proposed should be included in the pending section of the form.

14. Assurance Statement(s) (Form CSREES-2008)

A number of situations encountered in the conduct of projects require special assurances, supporting documentation, etc., before funding can be approved for the project. In addition to any other situation that may exist with regard to a particular project, applications involving any of the following elements must comply with the additional requirements as applicable.

a. Recombinant DNA or RNA Research

As stated in 7 CFR part 3015.205(b)(3), all key personnel identified in the application and all endorsing officials of the proposing organization are required to comply with the guidelines established by the National Institutes of Health entitled, “Guidelines for Research Involving Recombinant DNA Molecules,” as revised. If your project proposes to use recombinant DNA or RNA techniques, you must so indicate by checking the “yes” box in Block 20 of Form CSREES-2002 (the Proposal Cover Page) and by completing Section A of Form CSREES-2008. For applicable applications recommended for funding, Institutional Biosafety Committee approval is required before CSREES funds will be released. Please refer to the application forms for further instructions.

b. Animal Care

Responsibility for the humane care and treatment of live vertebrate animals used in any grant project supported with funds provided by CSREES rests with the performing organization. Where a project involves the use of living vertebrate animals for experimental purposes, all key personnel identified in an application and all endorsing officials of the proposing organization are required to comply with the applicable provisions of the Animal Welfare Act of 1966, as amended (7 U.S.C. 2131 et seq.), and the regulations promulgated thereunder by the Secretary in 9 CFR Parts 1, 2, 3, and 4 pertaining to the care, handling, and treatment of these animals. If your project will involve these animals, you should check “yes” in block 20 of Form CSREES-2002 and complete Section B of Form CSREES-2008. In the event a project involving the use of live vertebrate animals results in a grant award, funds will be released only after the Institutional Animal Care and Use Committee has approved the project. Please refer to the application forms for further instructions.

c. Protection of Human Subjects

Responsibility for safeguarding the rights and welfare of human subjects used in any grant project supported with funds provided by CSREES rests with the performing organization. Guidance on this issue is contained in the National Research Act, Pub. L. No. 93-348, as amended, and implementing regulations promulgated by the Department under 7 CFR part 1c. If you propose to use human subjects in your project, you should check the “yes” box in Block 20 of Form CSREES-2002 and complete Section C of Form CSREES-2008. Please refer to the application forms for additional instructions.

15. Certifications

Note that by signing Form CSREES-2002 the applicant is providing the certifications required by 7 CFR part 3017, regarding Debarment and Suspension and Drug-Free Workplace, and 7 CFR part 3018, regarding Lobbying. The certification forms are included in the application package for informational purposes only. These forms should not be submitted with the application since by signing Form CSREES-2002 your organization is providing the required certifications. If the project will involve a subcontractor or consultant, the subcontractor/consultant should submit a Form AD-1048, Certification Regarding Debarment, Suspension, Ineligibility and Voluntary Exclusion—Lower Tier Covered Transactions, to the grantee organization for retention in their records. This form should not be submitted to USDA.

16. Compliance With the National Environmental Policy Act (NEPA) (Form CSREES-2006)

As outlined in 7 CFR part 3407 (the Cooperative State Research, Education, and Extension Service regulations implementing NEPA), the environmental data for any proposed project is to be provided to CSREES so that CSREES may determine whether any further action is needed. In some cases, however, the preparation of environmental data may not be required. Certain categories of actions are excluded from the requirements of NEPA.

In order for CSREES to determine whether any further action is needed with respect to NEPA, pertinent information regarding the possible environmental impacts of a particular project is necessary; therefore, Form CSREES-2006, “NEPA Exclusions Form,” must be included in the application indicating whether the applicant is of the opinion that the project falls within a categorical exclusion and the reasons therefore. If it is the applicant's opinion that the proposed project falls within the categorical exclusions, the specific exclusion(s) must be identified.

Even though a project may fall within the categorical exclusions, CSREES may determine that an Environmental Assessment or an Environmental Impact Statement is necessary for an activity, if substantial controversy on environmental grounds exists or if other extraordinary conditions or circumstances are present which may cause such activity to have a significant environmental effect.

C. Submission of Applications

1. When To Submit (Deadline Date)

Applications must be received by COB on February 11, 2002. (5 p.m. Eastern Time). Applications received after this deadline will not be considered for funding.

2. What To Submit

An original and five (5) copies must be submitted. In addition submit two (2) copies of the application's Project Summary. All copies of the application and the Project Summary must be submitted in one package.

3. Where To Submit

Applicants are strongly encouraged to submit completed applications via overnight mail or delivery service to ensure timely receipt by the USDA. The address for hand-delivered applications or applications submitted using an express mail or overnight courier service is: Higher Education Challenge Grants Program; c/o Proposal Services Unit; Cooperative State Research, Education, and Extension Service; U.S. Department of Agriculture; Room 1307, Waterfront Centre; 800 9th Street, SW.; Washington, DC 20024; Telephone: (202) 401-5048.

Applications sent via the U.S. Postal Service must be sent to the following address: Higher Education Challenge Grants Program; c/o Proposal Services Unit; Cooperative State Research, Education, and Extension Service; U.S. Department of Agriculture; STOP 2245; 1400 Independence Avenue, SW.; Washington, DC 20250-2245.

D. Acknowledgment of Applications

The receipt of all applications will be acknowledged by e-mail. Therefore, applicants are strongly encouraged to provide accurate e-mail addresses, where designated, on the Form CSREES-2002. If the applicant's e-mail address is not indicated, CSREES will acknowledge receipt of the application by letter.

If the applicant does not receive an acknowledgment within 60 days of the submission deadline, please contact the program contact. Once the application has been assigned an application number, please cite that number on all future correspondence.

Part IV—Review Process

A. General

Each application will be evaluated in a 2-part process. First, each application will be screened to ensure that it meets the administrative requirements as set forth in this RFA. Second, applications that meet these requirements will be technically evaluated by a review panel.

Reviewers will be selected based upon training and experience in relevant scientific, extension, or education fields, taking into account the following factors: (a) The level of relevant formal scientific, technical education, or extension experience of the individual, as well as the extent to which an individual is engaged in relevant research, education, or extension activities; (b) the need to include as reviewers experts from various areas of specialization within relevant scientific, education, or extension fields; (c) the need to include as reviewers other experts (e.g., producers, range or forest managers/operators, and consumers) who can assess relevance of the applications to targeted audiences and to program needs; (d) the need to include as reviewers experts from a variety of organizational types (e.g., colleges, universities, industry, state and Federal agencies, private profit and non-profit organizations) and geographic locations; (e) the need to maintain a balanced composition of reviewers with regard to minority and female representation and an equitable age distribution; and (f) the need to include reviewers who can judge the effective usefulness to producers and the general public of each application.

B. Evaluation Criteria

The evaluation criteria and weights below will be used in reviewing applications submitted in response to this RFA:

1. Potential for Advancing the Quality of Education (30 Points)

This criterion is used to assess the likelihood that the project will have an impact on the quality of food and agricultural sciences higher education by promoting and strengthening institutional capacities to meet clearly documented State, regional, multi-state, national, or international needs. Elements include identification of need area(s), justification for the project, innovation (creative programs, material or curricula), and a multidisciplinary focus.

2. Proposed Approach (25 Points)

This criterion relates to the soundness of the proposed approach and includes objectives (achievable, logical, based upon review of literature), methodology, plan of operation (managerially, educationally, and/or scientifically sound), time line, evaluation (specific procedures that ensure measurable outcomes and impacts are assessed) and dissemination plans (commitment to submit results or products to a peer review by the academic community and/or to share results or products by electronic communications, conferences, workshops, or other similar means), expected products, results and measurable outcomes, and partnerships and collaborative efforts (enhanced coordination and/or new linkages).

3. Key Personnel (20 Points)

This criterion relates to the adequacy of the number and qualifications of the key persons who will carry out the project.

4. Institutional Commitment and Resources (15 Points)

This criterion relates to the institution's commitment to the project, the adequacy of institutional resources (administrative, facilities, equipment and/or materials) available to carry out the project, and continuation plans ensuring the project maintains its impact once funding expires.

5. Budget and Cost-Effectiveness (10 Points)

This criterion relates to the extent to which the total budget adequately supports the project and is cost-effective. Elements considered include the necessity and reasonableness of costs to carry out project activities and achieve project objectives; the appropriateness of budget allocations between the applicant and any collaborating institution(s); the adequacy of time committed to the project by key project personnel; and the degree to which the project maximizes the use of limited resources, optimizes educational value for the dollar, achieves economies of scale, leverages additional funds (identify non-Federal matching support), includes sound quality-control measures, and focuses expertise and activity on targeted educational areas.

C. Conflicts of Interest and Confidentiality

During the peer evaluation process, extreme care will be taken to prevent any actual or perceived conflicts of interest that may impact review or evaluation. For the purpose of determining conflicts of interest, the academic and administrative autonomy of an institution shall be determined by reference to the 2002 Higher Education Directory, published by Higher Education Publications, Inc., 6400 Arlington Boulevard, Suite 648, Falls Church, Virginia 22042. Phone: (703) 532-2300. Web site: http://www.hepinc.com.

Names of submitting institutions and individuals, as well as application content and peer evaluations, will be kept confidential, except to those involved in the review process, to the extent permitted by law. In addition, the identities of peer reviewers will remain confidential throughout the entire review process. Therefore, the names of the reviewers will not be released to applicants. At the end of the fiscal year, names of panelists will be made available in such a way that the panelists cannot be identified with the review of any particular application.

Part V—Grant Awards

A. General

Within the limit of funds available for such purpose, the awarding official of CSREES shall make grants to those responsible, eligible applicants whose applications are judged most meritorious under the procedures set forth in this RFA. The date specified by the awarding official of CSREES as the effective date of the grant shall be no later than September 30 of the Federal fiscal year in which the project is approved for support and funds are appropriated for such purpose, unless otherwise permitted by law. It should be noted that the project need not be initiated on the grant effective date, but as soon thereafter as practical so that project goals may be attained within the funded project period. All funds granted by CSREES under this RFA shall be expended solely for the purpose for which the funds are granted in accordance with the approved application and budget, the regulations, the terms and conditions of the award, the applicable Federal cost principles, and the Department's assistance regulations (parts 3015 and 3019 of 7 CFR).

B. Organizational Management Information

Specific management information relating to an applicant shall be submitted on a one-time basis as part of the responsibility determination prior to the award of a grant identified under this RFA, if such information has not been provided previously under this or another CSREES program. CSREES will provide copies of forms recommended for use in fulfilling these requirements as part of the preaward process. Although an applicant may be eligible based on its status as one of these entities, there are factors which may exclude an applicant from receiving Federal financial and nonfinancial assistance and benefits under this program (e.g., debarment or suspension of an individual involved or a determination that an applicant is not responsible based on submitted organizational management information).

C. Grant Award Document and Notice of Grant Award

The grant award document shall include at a minimum the following:

(1) Legal name and address of performing organization or institution to whom the Administrator has awarded a grant under the terms of this request for applications;

(2) Title of project;

(3) Name(s) and institution(s) of PD's chosen to direct and control approved activities;

(4) Identifying grant number assigned by the Department;

(5) Project period, specifying the amount of time the Department intends to support the project without requiring recompetition for funds;

(6) Total amount of Departmental financial assistance approved by the Administrator during the project period;

(7) Legal authority(ies) under which the grant is awarded;

(8) Appropriate Catalog of Federal Domestic Assistance (CFDA) number;

(9) Approved budget plan for categorizing allocable project funds to accomplish the stated purpose of the grant award; and

(10) Other information or provisions deemed necessary by CSREES to carry out its respective granting activities or to accomplish the purpose of a particular grant.

The notice of grant award, in the form of a letter, will be prepared and will provide pertinent instructions or information to the grantee that is not included in the grant award document.

Part VI—Additional Information

A. Access To Review Information

Copies of reviews, not including the identity of reviewers, and a summary of the panel comments will be sent to the applicant PD after the review process has been completed.

B. Use of Funds; Changes

1. Delegation of Fiscal Responsibility

Unless the terms and conditions of the grant state otherwise, the grantee may not in whole or in part delegate or transfer to another person, institution, or organization the responsibility for use or expenditure of grant funds.

2. Changes in Project Plans

a. The permissible changes by the grantee, PD(s), or other key project personnel in the approved project grant shall be limited to changes in methodology, techniques, or other similar aspects of the project to expedite achievement of the project's approved goals. If the grantee or the PD(s) is uncertain as to whether a change complies with this provision, the question must be referred to the Authorized Departmental Officer (ADO) for a final determination. The ADO is the signatory of the award document, not the program contact.

b. Changes in approved goals or objectives shall be requested by the grantee and approved in writing by the ADO prior to effecting such changes. In no event shall requests for such changes be approved which are outside the scope of the original approved project.

c. Changes in approved project leadership or the replacement or reassignment of other key project personnel shall be requested by the grantee and approved in writing by the ADO prior to effecting such changes.

d. Transfers of actual performance of the substantive programmatic work in whole or in part and provisions for payment of funds, whether or not Federal funds are involved, shall be requested by the grantee and approved in writing by the ADO prior to effecting such transfers, unless prescribed otherwise in the terms and conditions of the grant.

e. Changes in Project Period: The project period may be extended by CSREES without additional financial support, for such additional period(s) as the ADO determines may be necessary to complete or fulfill the purposes of an approved project, but in no case shall the total project period exceed five years. Any extension of time shall be conditioned upon prior request by the grantee and approval in writing by the ADO, unless prescribed otherwise in the terms and conditions of a grant.

f. Changes in Approved Budget: Changes in an approved budget must be requested by the grantee and approved in writing by the ADO prior to instituting such changes if the revision will involve transfers or expenditures of amounts requiring prior approval as set forth in the applicable Federal cost principles, Departmental regulations, or grant award.

C. Expected Program Outputs and Reporting Requirements

(a) During the tenure of a grant, project directors are invited to attend at least one national project directors meeting, if offered, in Washington, DC, or any other announced location. The purpose of the meeting will be to discuss project and grant management, opportunities for collaborative efforts, future directions for education reform, and opportunities to enhance dissemination of exemplary end products/results.

(b) An Annual Performance Report must be submitted to the USDA program contact person within 90 days after the completion of the first year of the project and annually thereafter during the life of the grant. Generally, the Annual Performance Reports should include a summary of the overall progress toward project objectives, current problems or unusual developments, the next year's activities, and any other information that is pertinent to the ongoing project or which may be specified in the terms and conditions of the award.

(c) A Final Performance Report must be submitted to the USDA program contact person within 90 days after the expiration date of the project. The expiration date is specified in the award documents and modifications thereto, if any. Generally, the Final Performance Report should be a summary of the completed project, including: a review of project objectives and accomplishments; a description of any products and outcomes resulting from the project; activities undertaken to disseminate products and outcomes; partnerships and collaborative ventures that resulted from the project; future initiatives that are planned as a result of the project; the impact of the project on the project director(s), students, the departments, the institution, and the food and agricultural sciences higher education system; and data on project personnel and beneficiaries. The Final Performance Report should be accompanied by samples or copies of any products or publications resulting from or developed by the project. The Final Performance Report also must contain any other information which may be specified in the terms and conditions of the award.

D. Applicable Federal Statutes and Regulations

Several Federal statutes and regulations apply to grant applications considered for review and to project grants awarded under this program. These include, but are not limited to:

7 CFR part 1.1—USDA implementation of the Freedom of Information Act.

7 CFR part 3—USDA implementation of OMB Circular No. A-129 regarding debt collection.

7 CFR part 15, subpart A—USDA implementation of Title VI of the Civil Rights Act of 1964, as amended.

7 CFR part 3015—USDA Uniform Federal Assistance Regulations, implementing OMB directives (i.e., OMB Circular Nos. A-21 and A-122) and incorporating provisions of 31 U.S.C. 6301-6308 (formerly the Federal Grant and Cooperative Agreement Act of 1977, Pub. L. No. 95-224), as well as general policy requirements applicable to recipients of Departmental financial assistance.

7 CFR part 3017—USDA implementation of Governmentwide Debarment and Suspension (Nonprocurement) and Governmentwide Requirements for Drug-Free Workplace (Grants).

7 CFR part 3018—USDA implementation of Restrictions on Lobbying. Imposes prohibitions and requirements for disclosure and certification related to lobbying on recipients of Federal contracts, grants, cooperative agreements, and loans.

7 CFR part 3019—USDA implementation of OMB Circular A-110, Uniform Administrative Requirements for Grants and Other Agreements With Institutions of Higher Education, Hospitals, and Other Nonprofit Organizations.

7 CFR part 3052—USDA implementation of OMB Circular No. A-133, Audits of States, Local Governments, and Non-profit Organizations.

7 CFR part 3407—CSREES procedures to implement the National Environmental Policy Act of 1969, as amended.

29 U.S.C. 794 (section 504, Rehabilitation Act of 1973) and 7 CFR part 15b (USDA implementation of statute)— prohibiting discrimination based upon physical or mental handicap in Federally assisted programs.

35 U.S.C. 200 et seq.—Bayh-Dole Act, controlling allocation of rights to inventions made by employees of small business firms and domestic nonprofit organizations, including universities, in Federally assisted programs (implementing regulations are contained in 37 CFR part 401).

E. Confidential Aspects of Applications and Awards

When an application results in a grant, it becomes a part of the record of CSREES transactions, available to the public upon specific request. Information that the Secretary determines to be of a confidential, privileged, or proprietary nature will be held in confidence to the extent permitted by law. Therefore, any information that the applicant wishes to have considered as confidential, privileged, or proprietary should be clearly marked within the application. The original copy of an application that does not result in a grant will be retained by the Agency for a period of one year. Other copies will be destroyed. Such an application will be released only with the consent of the applicant or to the extent required by law. An application may be withdrawn at any time prior to the final action thereon.

F. Regulatory Information

For the reasons set forth in the final Rule-related Notice to 7 CFR part 3015, subpart V (48 FR 29114, June 24, 1983), this program is excluded from the scope of the Executive Order 12372 which requires intergovernmental consultation with State and local officials. Under the provisions of the Paperwork Reduction Act of 1995 (44 U.S.C. chapter 35), the collection of information requirements contained in this Notice have been approved under OMB Document No. 0524-0039.

Done at Washington, DC, this 15th day of November 2001.
Colien Hefferan,
Administrator, Cooperative State Research, Education, and Extension Service.

[FR Doc. 01-28991 Filed 11-19-01; 8:45 am]

BILLING CODE 3410-22-P